DEPARTMENT OF HOMELAND SECURITY

Coast Guard

33 CFR Part 117

[Docket No. USCG-2010-0217]

Drawbridge Operation Regulation; Elizabeth River, Eastern Branch, VA

AGENCY: Coast Guard, DHS.

ACTION: Notice of temporary deviation from regulations.

SUMMARY: The Commander, Fifth Coast Guard District has issued a temporary deviation from the regulations governing the operation of the Berkley Bridge (I-264), across the Elizabeth River, Eastern Branch, mile 0.4, at Norfolk, VA. The deviation is necessary to facilitate structural repairs to the lift spans. This deviation allows the drawbridge to remain in the closed to navigation position.

DATES: This deviation is effective from 8 p.m. on April 23, 2010 through 4:30 a.m. on June 21, 2010.

ADDRESSES: Documents mentioned in this preamble as being available in the docket are part of docket USCG-2010-0217 and are available online by going to http://www.regulations.gov, inserting USCG-2010-0217 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Terrance Knowles, Environmental Protection Specialist, Fifth Coast Guard District; telephone 757-398-6587, e-mail Terrance.A.Knowles@uscg.mil. If you have questions on viewing the docket, call Renee V. Wright, Program Manager, Docket Operations, telephone 202-366-9826.

SUPPLEMENTARY INFORMATION: The Virginia Department of Transportation, who owns and operates this bascule-type drawbridge, has requested a temporary deviation from the current operating regulations set out in 33 CFR 117.1007(b) and (c) to facilitate the resurfacing of the bridge roadway, as modified by the temporary deviation at Docket No. USCG-2010-0083, published in the Federal Register on March 3, 2010, 75 Fed. Reg. 9521.

The Berkley Bridge (I-264) at mile 0.4, across the Elizabeth River, Eastern Branch, in Norfolk, VA, has a vertical clearance in the closed position of 48 feet above mean high water.

Under this temporary deviation, the drawbridge will be maintained in the closed to navigation position on four separate weekends beginning at 8 p.m. on Fridays until and including 4:30 a.m. on Mondays from April 23-26, 2010; April 30-May 3, 2010; May 14-17, 2010; and from June 4-7, 2010. In addition, if severe or inclement weather occurs, the alternate closure dates will be rescheduled to May 7-10, 2010 and/or June 18-21, 2010. During these closure periods, vessel openings of the draw spans along with the removal of barges in the waterway will be provided if at least two hours advance notice is given to the bridge operator at (757) 494-2490. No marine events are scheduled during these time periods and the waterway will still allow for the passage of vessels of heights less than 48 feet.

Smaller vessels that can pass under the bridge without a bridge opening may do so at most times. There are no alternate routes for vessels transiting this section of the Eastern Branch of the Elizabeth River. The bridge can be opened for emergencies but may be delayed by two hours.

The waterway users are large commercial vessels, tugs, barges, and smaller leisure craft. The Berkley Bridge opens rarely on weekends for larger commercial vessels, approximately 2-3 times/weekend. The Coast Guard has coordinated the restrictions with the commercial and recreational waterway users. Additionally, the Coast Guard will inform unexpected users of the waterway through our local and broadcast Notices to Mariners of the closure periods for the bridge so that vessels can arrange their transits to minimize any impacts caused by the temporary deviation.

In accordance with 33 CFR 117.35(e), the drawbridge must return to its regular operating schedule immediately at the end of the designated time period. This deviation from the operating regulations is authorized under 33 CFR 117.35.

Dated: April 1, 2010.
Patrick B. Trapp,
Captain, United States Coast Guard, Acting Commander, Fifth Coast Guard District.

[FR Doc. 2010-8476 Filed 4-13-10; 8:45 am]

BILLING CODE 9110-04-P